INTERNATIONAL TRADE COMMISSION

[Investigation No. 337-TA-1200]

Certain Electronic Devices, Including Streaming Players, Televisions, Set Top Boxes, Remote Controllers, and Components Thereof; Notice of a Commission Determination Not To Review an Initial Determination Correcting the Notice of Investigation

AGENCY: International Trade Commission.

ACTION: Notice.

SUMMARY: Notice is hereby given that the U.S. International Trade Commission (“Commission”) has determined not to review an initial determination (“ID”) (Order No. 33), granting the parties' joint motion to amend the notice of institution of the investigation by clarifying that claims 2 and 4-5 of U.S. Patent No. 10,593,196 (“the '196 patent”) are among the domestic industry claims but are not being asserted against any respondent for purposes of infringement. The notice of investigation is amended accordingly.

FOR FURTHER INFORMATION CONTACT: Carl P. Bretscher, Esq., Office of the General Counsel, U.S. International Trade Commission, 500 E Street SW, Washington, DC 20436, telephone (202) 205-2382. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal on (202) 205-1810.

SUPPLEMENTARY INFORMATION: The Commission instituted this investigation on May 22, 2020, based on a complaint filed by Universal Electronics, Inc. (“UEI”) of Scottsdale, Arizona. 85 FR 31211-212 (May 22, 2020). The complaint, as supplemented, alleges violations of section 337 of the Tariff Act of 1930, as amended, 19 U.S.C. 1337 (“Section 337”), in the importation into the United States, sale for importation, or sale in the United States after importation of certain electronic devices, including streaming players, televisions, set top boxes, remote controllers, and components thereof, by reason of infringement of one of more of the asserted claims of the '196 patent and U.S. Patent No. 7,696,514 (“the '514 patent”); 9,911,325 (“the '325 patent”); 7,589,642 (“the '642 patent”); 10,600,317 (“the '317 patent”); and 9,716,853 (“the '853 patent”). Id. The complaint also alleges that a domestic industry exists. Id. The Commission's notice of investigation named the following respondents: Roku Inc. of Los Gatos, California; TCL Electronics Holdings Ltd. of New Territories, Hong Kong; Shenzhen TCL New Technology Co. Ltd. of Shenzhen, China; TCL King Electrical Appliances Co. Ltd., Huizhou, China; TTE Technology Inc. of Corona, California; TCL Corp. of Huizhou City, China; TCL Moka Int'l Ltd. of New Territories, Hong Kong; TCL Overseas Marketing Ltd. of New Territories, Hong Kong; TCL Industries Holdings Co., Ltd. of New Territories, Hong Kong; TCL Smart Device Co. of Bac Tan Uyen District, Vietnam; Hisense Co. Ltd. of Qingdao, China; Hisense Electronics Manufacturing Co. of America Corp. of Suwanee, Georgia; Hisense Import & Export Co. Ltd. of Qingdao, China; Qingdao Hisense Electric Co., Ltd. of Qingdao, China; Hisense International Co., Ltd. of Shen Wang, Hong Kong; Funai Electric Co., Ltd. of Osaka, Japan; Funai Corp. Inc. of Rutherford, New Jersey; and Funai Co., Ltd. of Nakhon Ratchasima, Thailand (collectively, “Respondents”). Id. The Office of Unfair Import Investigations is not participating in this investigation. Id.

The Commission previously terminated the investigation with respect to the '853 patent, claims 19 and 20 of the '196 patent, and claims 14 and 20 of the '642 patent due to the withdrawal of those patent claims. Order No. 27 at 1 (Dec. 2, 2020), unreviewed by Comm'n Notice (Dec. 23, 2020). The Commission subsequently terminated the investigation with respect to claim 20 of the '514 patent. Order No. 32 (Dec. 21, 2020), unreviewed by Comm'n Notice (Jan. 5, 2021).

On December 29, 2020, the presiding administrative law judge issued the subject ID (Order No. 33), granting a joint motion by UEI and Respondents to correct the notice of institution of the investigation by clarifying that claims 2 and 4-5 of the '196 patent are domestic industry claims only and are not being asserted against any Respondent for purposes of infringement.

No petition for review of the subject ID was filed.

The Commission has determined not to review the subject ID. The notice of institution of the investigation is corrected accordingly.

The Commission vote for this determination took place on January 13, 2021.

The authority for the Commission's determination is contained in section 337 of the Tariff Act of 1930, as amended (19 U.S.C. 1337), and in Part 210 of the Commission's Rules of Practice and Procedure (19 CFR part 210).

By order of the Commission.
Issued: January 13, 2021.
Lisa Barton,
Secretary to the Commission.

[FR Doc. 2021-01083 Filed 1-15-21; 8:45 am]

BILLING CODE 7020-02-P